DEPARTMENT OF TRANSPORTATION

Federal Aviation Administration

14 CFR Part 39

[Docket No. 2001-SW-47-AD; Amendment 39-12880; AD 2002-18-06]

RIN 2120-AA64

Airworthiness Directives; Eurocopter France Model AS332C, L, L1, and Model SA330F, G, and J Helicopters

AGENCY: Federal Aviation Administration, DOT.

ACTION: Final rule.

SUMMARY: This amendment supersedes an existing airworthiness directive (AD), applicable to Eurocopter France (ECF) Model AS332C, L, and L1 and Model SA330F, G, and J helicopters, that currently requires an inspection to determine the angular play of the tail rotor gearbox (gearbox) at specified intervals. This amendment changes the measurement limits and the load to be applied to a tail rotor blade (blade) when determining the angular play. This amendment is prompted by a review of design data and a determination that the amount of play can be increased with an increase in the amount of applied load during the inspection. The actions specified by this AD are intended to detect excessive angular play and to prevent failure of a gearbox, loss of tail rotor drive, and subsequent loss of control of the helicopter.

DATES: Effective October 21, 2002.

The incorporation by reference of certain publications listed in the regulations is approved by the Director of the Federal Register as of October 21, 2002.

ADDRESSES: The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas; or at the Office of the Federal Register, 800 North Capitol Street, NW., suite 700, Washington, DC.

FOR FURTHER INFORMATION CONTACT: Uday Garadi, Aviation Safety Engineer, FAA, Rotorcraft Directorate, Rotorcraft Standards Staff, Fort Worth, Texas 76193-0110, telephone (817) 222-5123, fax (817) 222-5961.

SUPPLEMENTARY INFORMATION: A proposal to amend 14 CFR part 39 by superseding AD 98-06-04, Amendment 39-10633 (63 FR 34790, June 26, 1998), which applies to ECF Model AS332C, L, and L1 and Model SA330F, G, and J helicopters, was published in the Federal Register on February 14, 2002 (67 FR 6885). That action proposed to require an inspection of the angular play of certain gearboxes and to allow more play than the current AD allows before removing the gearbox is required. For the Model SA330 helicopter, the allowable play increased from 0.51mm to 0.64mm. For the Model AS332 helicopter, the allowable play increased from 0.51mm to 0.74mm.

Interested persons have been afforded an opportunity to participate in the making of this amendment. No comments were received on the proposal or the FAA's determination of the cost to the public. The FAA has determined that air safety and the public interest require the adoption of the rule as proposed.

The FAA estimates that 4 helicopters of U.S. registry will be affected by this AD, that it will take approximately 3 work hours per helicopter to accomplish the required actions, and that the average labor rate is $60 per work hour. Creating measurement tools will cost approximately $100 per helicopter and it will cost $45,000 to replace a gearbox. Based on these figures, the total cost impact of this AD on U.S. operators is estimated to be $1,120, assuming no gearbox will need to be replaced.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-10633 (63 FR 34790, June 26, 1998), and by adding a new airworthiness directive (AD), Amendment 39-12880, to read as follows:

2002-18-06 Eurocopter France: Amendment 39-12880. Docket No. 2001-SW-47-AD. Supersedes AD 98-06-04, Amendment 39-10633, Docket No. 98-SW-11-AD.

Applicability: Model AS332C, L, and L1 and Model SA330F, G, and J helicopters, with tail rotor gearbox (gearbox), part number (P/N) 332A33-0001-all dash numbers, 330A33-0000-all dash numbers, 330A33-0011-all dash numbers (for AS332 models), or 330A33-9109-all dash numbers (for SA330 models), installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (b) of this AD. The request should include an assessment of the effect of the modification, alteration, or repair on the unsafe condition addressed by this AD; and if the unsafe condition has not been eliminated, the request should include specific proposed actions to address it.

Compliance: Required as indicated, unless accomplished previously.

To detect excessive angular play in the gearbox and to prevent failure of a gearbox, loss of tail rotor drive, and subsequent loss of control of the helicopter, accomplish the following:

(a) Within 25 hours time-in-service (TIS) for any gearbox with 495 or more hours TIS, inspect each gearbox for play between the splines of the gearbox bevel gear and tail rotor driveshaft in accordance with the Accomplishment Instructions, paragraphs 2.A. through 2.B.4. of Eurocopter France Alert Service Bulletin No. 05.00.44 for the Model AS332 helicopters or No. 05.86 for the Model SA330 helicopters, both Revision 1 and both dated January 11, 2001.

(1) Thereafter, reinspect the gearbox for play:

(i) At intervals not to exceed 520 hours TIS, if the play measurement is 0.30 millimeter (mm) (0.0118 inch) or less for Model SA330 helicopters or 0.44mm (0.0173 inch) or less for Model AS332 helicopters, or

(ii) At intervals not to exceed 100 hours TIS, if the play measurement is greater than 0.30mm and less than 0.65mm (0.0255 inch) for Model SA330 helicopters or greater than 0.44mm and less than 0.75mm (0.0295 inch) for the Model AS332 helicopters.

(2) Before further flight, remove any gearbox if the play measurement is equal to or greater than 0.65mm for Model SA330 helicopters or 0.75mm for Model AS332 helicopters.

(b) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Regulations Group.

(c) Special flight permits will not be issued.

(d) The inspections shall be done in accordance with Eurocopter France Alert Service Bulletin No. 05.00.44 for the Model AS332 helicopters or No. 05.86 for the Model SA330 helicopters, both Revision 1 and both dated January 11, 2001. These incorporations by reference were approved by the Director of the Federal Register in accordance with 5 U.S.C. 552(a) and 1 CFR part 51. Copies may be obtained from American Eurocopter Corporation, 2701 Forum Drive, Grand Prairie, Texas 75053-4005, telephone (972) 641-3460, fax (972) 641-3527. Copies may be inspected at the FAA, Office of the Regional Counsel, Southwest Region, 2601 Meacham Blvd., Room 663, Fort Worth, Texas; or at the Office of the Federal Register, 800 North Capitol Street, NW., suite 700, Washington, DC.

(e) This amendment becomes effective on October 21, 2002.

Note 3: The subject of this AD is addressed in Direction Generale De L'Aviation Civile (France) ADs 1997-322-067(A) R2 and 1997-323-079(A) R2, both dated February 21, 2001.

Issued in Fort Worth, Texas, on September 5, 2002.
David A. Downey,
Manager, Rotorcraft Directorate, Aircraft Certification Service.

[FR Doc. 02-23286 Filed 9-13-02; 8:45 am]

BILLING CODE 4910-13-P